FEDERAL COMMUNICATIONS COMMISSION

Notice of Public Information Collection(s) Being Submitted to OMB for Review and Approval

March 23, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 6, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via Internet at Kristy_L._LaLonde@omb.eop.gov.

FOR FURTHER INFORMATION CONTACT: For additional information or copies of the information collections contact Les Smith at (202) 418-0217 or via the Internet at Leslie.Smith@fcc.gov.

SUPPLEMENTARY INFORMATION: OMB Control Number: 3060-0948.

Title: Noncommercial Educational Applicants.

Form Number: N/A.

Type of Review: Extension of currently approved collection.

Respondents: Not-for-profit institutions.

Number of Respondents: 630.

Estimated Time per Response: 0.25-2.0 hours.

Frequency of Response: Recordkeeping; On occasion reporting requirements.

Total Annual Burden: 534.

Total Annual Cost: $92,250.

Privacy Impact Assessment: Does not apply.

Needs and Uses: On April 4, 2000, the Commission adopted a Report and Order in MM Docket No. 95-31, FCC 00-120, In the Matter of Reexamination of the Comparative Standards for Noncommercial Educational Applicants. This Report and Order adopted procedures to select among competing applicants for noncommercial educational (NCE) broadcast channels, including a point system to select among mutually exclusive applicants on reserved channels and filing windows for new and major changes to NCE stations. 47 CFR 73.202 provides that entities eligible to operate an NCE broadcast station can request that a non-reserved FM channel be allotted as reserved only for NCE broadcasting. This request must include a demonstration as specified in (a)(1)(i) and (ii) of this rule section. 47 CFR 73.3527 requires that documentation of any points claimed in an application for a NCE broadcast station in the reserved band must be kept in the public inspection file. 47 CFR 73.3572 requires an applicant for a NCE broadcast station on a reserved channel to submit supporting documentation of the points claimed on the application form. The FCC staff use this documentation to determine whether there is a greater need for a noncommercial channel versus a commercial channel and to perform random audits of the application point certifications. This supporting documentation also enables competing applicants to verify and/or dispute other applicants' claims.

Federal Communications Commission.
Marlene H. Dortch,
Secretary.

[FR Doc. 04-7803 Filed 4-5-04; 8:45 am]

BILLING CODE 6712-01-P